DEPARTMENT OF JUSTICE

[OMB Number 1110-0065]

Agency Information Collection Activities; Proposed eCollection eComments Requested; Extension of a Previously Approved Collection; 2013 Private Industry Feedback Survey

AGENCY: Cyber Division, Federal Bureau of Investigation, Department of Justice.

ACTION: 30-Day notice.

SUMMARY: The Department of Justice (DOJ), Federal Bureau of Investigation (FBI), Cyber Division (CyD) will be submitting the following information collection request to the Office of Management and Budget (OMB) for review and approval in accordance with the Paperwork Reduction Act of 1995.

DATES: Comments are encouraged and will be accepted for 30 days until February 21, 2025.

FOR FURTHER INFORMATION CONTACT: The proposed information collection was previously published in the Federal Register on November 27, 2024, allowing a 60-day comment period. If you have comments especially on the estimated public burden or associated response time, suggestions, or need a copy of the proposed information collection instrument with instructions or additional information, please contact: Lawrence Quigley, Unit Chief, FBI, CyD, 935 Pennsylvania Ave. NW, Washington, DC 20535; email: lwquigley@fbi.gov; telephone: 304-367-3766. Written comments and/or suggestions can also be sent to the Office of Management and Budget, Office of Information and Regulatory Affairs, Attention Department of Justice Desk Officer, Washington, DC 20503. Additionally, comments may be submitted via email to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/ PRAMain. Find this particular information collection by selecting “Currently under 30-day Review—Open for Public Comments” or by using the search function and entering either the title of the information collection or the OMB Control Number [1110-0065]. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Extension of a previously approved collection.

2. Title of the Form/Collection: 2013 Private Industry Feedback Survey.

3. Agency form number, if any, and the applicable component of the Department of Justice sponsoring the collection: N/A.

4. Affected public who will be asked or required to respond, as well as a brief abstract:

Affected Public: The FBI, Cyber Division, produces reports that provide information related to cyber trends and threats for private sector partners. The reports are referred to as Private Industry Notifications (PINs) and FBI Liaison Alert Systems (FLASHs). In order to improve the PIN/FLASH reports, a “Feedback” Section has been added to the reports containing a URL that links to a voluntary online survey. The results of the survey are reviewed by Cyber Division and used to improve future reports to better serve the FBI's private sector partners.

Abstract: The FBI, Cyber Division, provides a voluntary “Feedback” Section on reports related to cyber trends and threats for private sector partners. Obligation to Respond: Voluntary

5. Total Estimated Number of Respondents: An estimated 5,000 respondents will complete the survey.

6. Estimated Time per Respondent: It is estimated that it takes each respondent 3 minutes to complete the survey.

7. Frequency: Annually.

8. Total Estimated Annual Time Burden: The estimated public burden associated with this collection is 250 hours.

9. Total Estimated Annual Other Costs Burden: $0.

If additional information is required, contact: Darwin Arceo, Department Clearance Officer, Policy and Planning Staff, Justice Management Division, United States Department of Justice, Two Constitution Square, 145 N Street NE, 4W-218 Washington, DC 20530.

Dated: January 16, 2025.
Darwin Arceo,
Department Clearance Officer for PRA, U.S. Department of Justice.

[FR Doc. 2025-01462 Filed 1-21-25; 8:45 am]

BILLING CODE 4410-02-P